DEPARTMENT OF TRANSPORTATION

Federal Motor Carrier Safety Administration

[Docket No. FMCSA-2018-0346]

Commercial Driver's Licenses; Pilot Program To Allow Drivers Under 21 To Operate Commercial Motor Vehicles in Interstate Commerce; Extension of Comment Period

AGENCY: Federal Motor Carrier Safety Administration (FMCSA), DOT.

ACTION: Notice and request for comments; extension of comment period.

SUMMARY: The Federal Motor Carrier Safety Administration (FMCSA) extends the comment period for its May 15, 2019 notice concerning a possible pilot program to allow non-military drivers aged 18, 19, and 20 to operate commercial motor vehicles (CMVs) in interstate commerce. FMCSA received a request for an extension to the comment period from the American Trucking Associations (ATA). The Agency believes it is appropriate to extend the comment period to provide interested parties additional time to submit their responses to the notice. Therefore, the Agency extends the deadline for the submission of comments from July 15, 2019, to August 14, 2019.

DATES: The comment period for the notice published May 15, 2019 at 84 FR 21895 is extended. Comments must be received on or before August 14, 2019.

ADDRESSES: You may submit comments bearing the Federal Docket Management System (FDMS) Docket ID FMCSA-2018-0346 using any of the following methods:

• Federal eRulemaking Portal: http://www.regulations.gov/docket?D=FMCSA-2018-0346. Follow the online instructions for submitting comments.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: (202) 493-2251.

To avoid duplication, please use only one of these four methods. See the “Public Participation” portion of the SUPPLEMENTARY INFORMATION section for instructions on submitting comments.

FOR FURTHER INFORMATION CONTACT: Mr. Selden Fritschner, Commercial Drivers License Division, Federal Motor Carrier Safety Administration, 1200 New Jersey Avenue SE, Washington, DC 20590-0001, selden.fritschner@dot.gov, 202-366-0677. If you have questions on viewing or submitting material to the docket, contact Docket Services, (202) 366-9826.

SUPPLEMENTARY INFORMATION:

I. Public Participation and Request for Comments

A. Submitting Comments

If you submit a comment, please include the docket number for this notice (Docket No. FMCSA-2018-0346), indicate the specific section of the notice to which each comment applies, and provide a reason for each suggestion or recommendation. You may submit your comments and material online or by fax, mail, or hand delivery, but please use only one of these means. FMCSA recommends that you include your name and a mailing address, an email address, or a phone number in the body of your document so that FMCSA can contact you if there are questions regarding your submission. To submit your comment online, go to http://www.regulations.gov/docket?D=FMCSA-2018-0346. Click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well documents mentioned in this notice as being available in the docket, go to http://www.regulations.gov/docket?D=FMCSA-2018-0346 and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

The May 2019 notice (84 FR 21895) requested public comment on six subject areas: Training and experience, operational requirements, participation requirements, technology requirements, insurance, and research and data.

The comment period for the notice was set to expire on July 15, 2019. FMCSA received a request to extend the comment period, as noted above. A copy of the request is included in the docket referenced at the beginning of this notice.

ATA requested a 30-day extension of the comment period, stating that the additional time was needed to enable them to gather safety performance data and other relevant information to more fully address the issues presented in a way that will best aid the Agency.

FMCSA believes that other potential commenters to this notice will benefit from an extension as well. Accordingly, FMCSA extends the comment period for all comments on the notice to August 14, 2019.

Issued on: July 12, 2019.
Larry W. Minor,
Associate Administrator for Policy.

[FR Doc. 2019-15212 Filed 7-12-19; 4:15 pm]

BILLING CODE 4910-EX-P